DEPARTMENT OF EDUCATION

Equity and Excellence Commission

AGENCY: Office for Civil Rights, U.S. Department of Education.

ACTION: Request for Nominations to Serve on the Equity and Excellence Commission.

SUMMARY: The Secretary of Education (Secretary) invites interested parties to submit nominations for individuals to serve on the Equity and Excellence Commission.

SUPPLEMENTARY INFORMATION: The Equity and Excellence Commission (Equity Commission or Commission) will be established by the Secretary of Education and governed by the provisions of the Federal Advisory Committee Act (FACA) (Pub. L. 92-463, as amended; 5 U.S.C.A., Appendix 2). The Commission will collect information, analyze issues, and obtain broad public input regarding how the Federal government can increase educational opportunity by improving school funding equity. The Commission will also make recommendations for restructuring school finance systems to achieve equity in the distribution of educational resources and further student performance, especially for the students at the lower end of the achievement gap. The Commission will examine the disparities in meaningful educational opportunities that give rise to the achievement gap, with a focus on systems of finance, and recommend appropriate ways in which Federal policies could address such disparities.

The Commission will submit a report to the Secretary outlining its findings and any recommendations. The Secretary will share a copy of this report with Congress through the United States Senate Committees on Appropriations and on Health, Education, Labor, and Pensions and the United States House of Representatives Committees on Appropriations and on Education and Labor.

The Commission will be composed of approximately 15 members, including persons who have knowledge of and expertise in systems of school finance, taxes, or civil rights. The Secretary intends that at least one-third of the members will have experience working in or with State educational agencies or local educational agencies. The Commission will also include ex officio members from the Department, including, but not limited to, the Deputy Secretary, the General Counsel, and the Assistant Secretary for Civil Rights.

Nomination Process: Any interested person or organization may nominate one or more qualified individuals for membership. If you would like to nominate an individual or yourself for appointment to the Commission, please submit the following information to the Department's White House Liaison Office:

• A copy of the nominee's resume;

• A cover letter that provides the reason(s) for nominating the individual; and

• Contact information for the nominee (name, title, and business address, phone number, fax number, and e-mail address).

In addition, the cover letter must state that the nominee (if you are nominating someone other than yourself) has agreed to be nominated and is willing to serve on the Commission. Nominees will be appointed based on:

• Technical qualifications, professional experience, and demonstrated knowledge of issues related to systems of school finance, taxes, and civil rights; and

• Demonstrated experience, integrity, impartiality, and good judgment.

The Secretary will appoint members for the life of the Commission, which will span approximately 15 months. Any member appointed to fill a vacancy occurring prior to the expiration of the full term for which the member's predecessor was appointed will be appointed for the remainder of such term.

Members will serve without compensation. However, members may receive reimbursement for travel expenses for attending Commission meetings, including per diem in lieu of subsistence, as authorized by the Federal travel regulations.

These members will serve as Special Government Employees (SGEs) and, as SGEs, will be chosen for their individual expertise, qualifications, and experience; they will provide advice and make recommendations based on their independent judgment and will not be speaking for or representing the views of any nongovernmental organization or recognizable group of persons.

DATES: Nominations for individuals to serve on the Commission must be submitted (postmarked, if sending by mail; submitted electronically; or received, if hand-delivered) by September 10, 2010.

ADDRESSES: You may submit nominations, including attachments, by any of the following methods:

• Electronically: Send to: WhiteHouseLiaison@ed.gov (specify in the e-mail subject line, “Equity Commission Nomination”).

• Mail, express delivery, hand delivery, messenger, or courier service: Submit one copy of the documents listed above to the following address: U.S. Department of Education, White House Liaison Office, 400 Maryland Avenue, SW., Room 7C109, Washington, DC 20202, Attn: Karen Akins.

For questions, contact Karen Akins, White House Liaison Office, at (202) 401-3677, at (202) 205-0723 (fax), or via e-mail at WhiteHouseLiaison@ed.gov.

Dated: August 5, 2010.
Arne Duncan,
Secretary of Education.

[FR Doc. 2010-19798 Filed 8-10-10; 8:45 am]

BILLING CODE 4000-01-P